ENVIRONMENTAL PROTECTION AGENCY

40 CFR Part 52

[EPA-R01-OAR-2017-0065; FRL-9975-43—Region 1]

Air Plan Approval; Connecticut; Infrastructure State Implementation Plan Requirements; Prevention of Significant Deterioration Permit Program Revisions

AGENCY: Environmental Protection Agency (EPA).

ACTION: Proposed rule.

SUMMARY: The Environmental Protection Agency (EPA) is proposing to approve elements of a State Implementation Plan (SIP) submission from Connecticut regarding the infrastructure requirements of the Clean Air Act (CAA or Act) for the 2012 fine particle (PM2.5) National Ambient Air Quality Standards (NAAQS), and a SIP submission addressing interstate transport requirements of the CAA for the 2006 PM2.5 NAAQS. In addition, we are proposing to approve one statute included in the SIP for the 2012 PM2.5 NAAQS. The infrastructure requirements are designed to ensure that the structural components of each state's air quality management program are adequate to meet the state's responsibilities under the CAA. The EPA is also proposing to approve revisions to the SIP submitted by Connecticut on October 18, 2017, satisfying Connecticut's earlier commitment to adopt and submit provisions that meet certain requirements of the federal Prevention of Significant Deterioration (PSD) permit program. In addition, we are proposing to convert the June 3, 2016 conditional approval for elements of Connecticut's infrastructure SIP regarding PSD requirements to treat nitrogen oxides (NOX) as a precursor to ozone and to establish a minor source baseline date for PM2.5 emissions. This action is being taken under the Clean Air Act.

DATES: Written comments must be received on or before April 18, 2018.

ADDRESSES: Submit your comments, identified by Docket ID No. EPA-R01-OAR-2017-0065 at https://www.regulations.gov, or via email to simcox.alison@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the “For Further Information Contact” section. For the full EPA public comment policy, information about CBI or multimedia submissions, and general guidance on making effective comments, please visit www.epa.gov/dockets/commenting-epa-dockets.

FOR FURTHER INFORMATION CONTACT: Alison C. Simcox, Air Quality Unit, U.S. Environmental Protection Agency, EPA New England Regional Office, 5 Post Office Square—Suite 100 (Mail code OEP05-2), Boston, MA 02109—3912, tel. (617) 918-1684; simcox.alison@epa.gov.

SUPPLEMENTARY INFORMATION: Throughout this document whenever “we,” “us,” or “our” is used, we mean EPA.

Table of Contents

I. Background and Purpose

A. What Connecticut SIP submissions does this rulemaking address?

B. What is the scope of this rulemaking?

II. What guidance is EPA using to evaluate these SIP submissions?

III. EPA's Review

A. Section 110(a)(2)(A)—Emission Limits and Other Control Measures

B. Section 110(a)(2)(B)—Ambient Air Quality Monitoring/Data System

C. Section 110(a)(2)(C)—Program for Enforcement of Control Measures and for Construction or Modification of Stationary Sources

D. Section 110(a)(2)(D)—Interstate Transport

E. Section 110(a)(2)(E)—Adequate Resources

F. Section 110(a)(2)(F)—Stationary Source Monitoring System

G. Section 110(a)(2)(G)—Emergency Powers

H. Section 110(a)(2)(H)—Future SIP Revisions

I. Section 110(a)(2)(I)—Nonattainment Area Plan or Plan Revisions Under Part D

J. Section 110(a)(2)(J)—Consultation With Government Officials; Public Notifications; Prevention of Significant Deterioration; Visibility Protection

K. Section 110(a)(2)(K)—Air Quality Modeling/Data

L. Section 110(a)(2)(L)—Permitting Fees

M. Section 110(a)(2)(M)—Consultation/Participation by Affected Local Entities

N. Connecticut Statute Submitted for Incorporation Into the SIP

IV Proposed Action

V. Incorporation by Reference

VI. Statutory and Executive Order Reviews

I. Background and Purpose

A. What Connecticut SIP submissions does this rulemaking address?

This rulemaking addresses three submissions from the Connecticut Department of Energy and Environmental Protection (CT DEEP). The state submitted a SIP addressing the “Good Neighbor” (or “transport”) provisions for the 2006 PM2.5 ¹ National Ambient Air Quality Standard (NAAQS) (Section 110(a)(2)(D)(I) of the CAA) on August 19, 2011, and an infrastructure SIP (including the transport provisions) for the 2012 PM2.5 NAAQS on December 14, 2015. Under sections 110(a)(1) and (2) of the CAA, states are required to submit infrastructure SIPs to ensure that state SIPs provide for implementation, maintenance, and enforcement of the NAAQS, including the 2006 and 2012 PM2.5 NAAQS.

¹ PM2.5 refers to particulate matter of 2.5 microns or less in diameter, often referred to as “fine” particles.

In addition, on October 18, 2017, CT DEEP submitted a SIP revision that addresses applicable requirements for the PSD permit program in Part C of the CAA that are codified in 40 CFR 51.166. PSD permitting requirements apply to new major sources or major modifications for pollutants where the area in which the source is located is either in attainment with or unclassifiable with regard to the relevant NAAQS. CT DEEP had committed by letter dated August 5, 2015, to submit these revisions to the PSD permit program for EPA approval.

B. What is the scope of this rulemaking?

EPA is acting on three SIP submissions from Connecticut that address the infrastructure requirements of CAA sections 110(a)(1) and 110(a)(2) for the 2006 and 2012 PM2.5 NAAQS and revisions to the PSD permit program.

The requirement for states to make a SIP submission of this type arises out of CAA sections 110(a)(1) and 110(a)(2). Pursuant to these sections, each state must submit a SIP that provides for the implementation, maintenance, and enforcement of each primary or secondary NAAQS. States must make such SIP submission “within 3 years (or such shorter period as the Administrator may prescribe) after the promulgation of a new or revised NAAQS.” This requirement is triggered by the promulgation of a new or revised NAAQS and is not conditioned upon EPA's taking any other action. Section 110(a)(2) includes the specific elements that “each such plan” must address.

EPA commonly refers to such SIP submissions made for the purpose of satisfying the requirements of CAA sections 110(a)(1) and 110(a)(2) as “infrastructure SIP” submissions. Although the term “infrastructure SIP” does not appear in the CAA, EPA uses the term to distinguish this particular type of SIP submission from submissions that are intended to satisfy other SIP requirements under the CAA, such as “nonattainment SIP” or “attainment plan SIP” submissions to address the nonattainment planning requirements of part D of title I of the CAA.

This rulemaking will not cover three substantive areas that are not integral to acting on a state's infrastructure SIP submission: (i) Existing provisions related to excess emissions during periods of start-up, shutdown, or malfunction at sources (“SSM” emissions) that may be contrary to the CAA and EPA's policies addressing such excess emissions; (ii) existing provisions related to “director's variance” or “director's discretion” that purport to permit revisions to SIP-approved emissions limits with limited public process or without requiring further approval by EPA, that may be contrary to the CAA (“director's discretion”); and, (iii) existing provisions for Prevention of Significant Deterioration (PSD) programs that may be inconsistent with current requirements of EPA's “Final New Source Review (NSR) Improvement Rule,” 67 FR 80186 (December 31, 2002), as amended by 72 FR 32526 (June 13, 2007) (“NSR Reform”). Instead, EPA has the authority to address each one of these substantive areas separately. A detailed history, interpretation, and rationale for EPA's approach to infrastructure SIP requirements can be found in EPA's May 13, 2014, proposed rule entitled, “Infrastructure SIP Requirements for the 2008 Lead NAAQS” in the section, “What is the scope of this rulemaking?” See 79 FR 27241 at 27242-45.

II. What guidance is EPA using to evaluate these SIP submissions?

EPA highlighted the statutory requirement to submit infrastructure SIPs within 3 years of promulgation of a new NAAQS in an October 2, 2007, guidance document entitled “Guidance on SIP Elements Required Under Sections 110(a)(1) and (2) for the 1997 8-hour Ozone and PM2.5 National Ambient Air Quality Standards” (2007 guidance). EPA has issued additional guidance documents and memoranda, including a September 13, 2013, guidance document entitled “Guidance on Infrastructure State Implementation Plan (SIP) Elements under Clean Air Act Sections 110(a)(1) and 110(a)(2)” (2013 guidance).

With respect to the Good Neighbor provision, the most recent relevant document was a memorandum published on March 17, 2016, entitled “Information on the Interstate Transport `Good Neighbor' Provision for the 2012 Fine Particulate Matter National Ambient Air Quality Standards under Clean Air Act Section 110(a)(2)(D)(i)(I)” (2016 memorandum).² The 2016 memorandum describes EPA's past approach to addressing interstate transport, and provides EPA's general review of relevant modeling data and air quality projections as they relate to the 2012 annual PM2.5 NAAQS. The 2016 memorandum provides information relevant to EPA Regional office review of the CAA section 110 (a)(2)(D)(i)(I) “Good Neighbor” provision requirements in infrastructure SIPs with respect to the 2012 annual PM2.5 NAAQS. This rulemaking considers information provided in that memorandum.

² This memorandum is available in the docket and at https://www.epa.gov/sites/production/files/2016-08/documents/good-neighbor-memo_implementation.pdf.

III. EPA's Review

In this notice of proposed rulemaking, EPA is proposing action on Connecticut's infrastructure SIP submissions and revisions to the PSD permit program. In Connecticut's submissions, a detailed list of Connecticut Laws and previously SIP-approved Air Quality Regulations show precisely how the various components of its EPA-approved SIP meet each of the requirements of section 110(a)(2) of the CAA for the 2006 and 2012 PM2.5 NAAQS. The following review evaluates the state's submissions in light of section 110(a)(2) requirements and relevant EPA guidance. For Connecticut's August 19, 2011 submission addressing the transport provisions with respect to the 2006 PM2.5 NAAQS, we reviewed infrastructure elements in Section 110(a)(2)(D)(I).³ For the state's December 14, 2015 submission addressing the 2012 PM2.5 NAAQS, we reviewed all Section 110(a)(2) elements, including the transport provisions, but excluding the three areas discussed above under the scope of this rulemaking. The revisions to the PSD permit program were evaluated for consistency with the regulations at 40 CFR 51.166 and Part C of the CAA and are required to be included in the SIP by Section 110(a)(2)(C).

³ EPA previously took action on the other elements of Connecticut's infrastructure SIP for the 2006 PM2.5 NAAQS on October 16, 2012 (77 FR 63228) and on June 3, 2016 (81 FR 35636).

A. Section 110(a)(2)(A)—Emission Limits and Other Control Measures

This section (also referred to in this action as an element) of the Act requires SIPs to include enforceable emission limits and other control measures, means or techniques, schedules for compliance, and other related matters. However, EPA has long interpreted emission limits and control measures for attaining the standards as being due when nonattainment planning requirements are due.⁴ In the context of an infrastructure SIP, EPA is not evaluating the existing SIP provisions for this purpose. Instead, EPA is only evaluating whether the state's SIP has basic structural provisions for the implementation of the NAAQS.

⁴ See, e.g., EPA's final rule on “National Ambient Air Quality Standards for Lead.” 73 FR 66964, 67034 (Nov. 12, 2008).

Connecticut Public Act No. 11-80 established the CT DEEP, and Connecticut General Statutes (CGS) Section 22a-6(a)(1) provides the Commissioner of CT DEEP authority to adopt, amend or repeal environmental standards, criteria and regulations. It is under this general grant of authority that the Commissioner has adopted emissions standards and control measures for a variety of sources and pollutants. Connecticut also has SIP-approved provisions for specific pollutants. For example, CT DEEP has adopted primary and secondary ambient air quality standards for PM2.5 in Regulations of Connecticut State Agencies (RCSA) Section 22a-174-24(f).

As noted in EPA's approval of RCSA § 22a-174-24, Ambient Air Quality Standards, on June 24, 2015 (80 FR 36242), Connecticut's standards are consistent with the current federal NAAQS. Under element A of its December 14, 2015 infrastructure SIP submittal for the 2012 PM2.5 NAAQS, Connecticut DEEP highlighted several rules that the state has previously adopted, and that EPA has previously approved, to limit the quantity, rate, or concentration of emissions of PM2.5 and PM2.5 precursors. Some of these are: RCSA § 22a-174-18, Control of particulate matter and visible emissions (July 16, 2014; 79 FR 41427); RCSA § 22a-174-19a, Control of sulfur dioxide emissions from power plants and other large stationary sources (July 10, 2014; 79 FR 39322); and RCSA § 22a-174-22, Control of nitrogen oxides emissions (October 6, 1997; 62 FR 52016 and July 10, 2014; 79 FR 39322).

In its infrastructure SIP submittal for the 2012 PM2.5 NAAQS, Connecticut submitted revisions to CGS § 16a-21a (Sulfur content of home heating oil and off-road diesel fuel. Suspension of requirements for emergency). This statute was previously approved into the SIP (June 3, 2016; 81 FR 35636) and limited the sulfur content of fuels sold or used in Connecticut to 0.3 percentage by weight for number two heating oil and off-road diesel fuel. The sulfur content of number two heating oil was further limited to 500 ppm from July 1, 2011 through June 30, 2014, and to 15 ppm beginning July 1, 2014. The EPA-approved statute included a provision that these sulfur limits would not take effect until the states of New York, Massachusetts and Rhode Island each had adopted similar requirements. In addition, the statute allows Connecticut to suspend these requirements if availability of the compliant fuel is inadequate to meet the needs of residential, commercial or industrial users in the state and if Connecticut deems that this constitutes an emergency.

Connecticut's revision of this statute removes the provision concerning the three other states, and moves the dates for the 500-ppm requirement to July 1, 2014 through June 30, 2018, and for the 15-ppm requirement, to July 1, 2018. The revision also includes a provision stating that CT DEEP can use RCSA section 22a-174-19b, fuel sulfur content limitations for stationary sources, to enforce provisions of the statute. EPA has determined that the revision to CGS § 16a-21a is as stringent as the EPA-approved version and, therefore, proposes to approve this revision into the Connecticut SIP.

EPA proposes that Connecticut meets the infrastructure SIP requirements of section 110(a)(2)(A) with respect to the 2012 PM2.5 NAAQS. As previously noted, EPA is not proposing to approve or disapprove any existing state provisions or rules related to SSM or director's discretion in the context of section 110(a)(2)(A).

B. Section 110(a)(2)(B)—Ambient Air Quality Monitoring/Data System

This section requires SIPs to include provisions to provide for establishing and operating ambient air quality monitors, collecting and analyzing ambient air quality data, and making these data available to EPA upon request. Each year, states submit annual air monitoring network plans to EPA for review and approval. EPA's review of these annual monitoring plans includes our evaluation of whether the state: (i) Monitors air quality at appropriate locations throughout the state using EPA-approved Federal Reference Methods or Federal Equivalent Method monitors; (ii) submits data to EPA's Air Quality System (AQS) in a timely manner; and (iii) provides EPA Regional Offices with prior notification of any planned changes to monitoring sites or the network plan.

CT DEEP continues to operate a monitoring network, and EPA approved the state's 2016 Annual Air Monitoring Network Plan for PM2.5 on September 12, 2016.⁵ Furthermore, CT DEEP populates EPA's Air Quality System (AQS) with air quality monitoring data in a timely manner, and provides EPA with prior notification when considering a change to its monitoring network or plan. Under element B of its December 14, 2015 infrastructure SIP submittal for the 2012 PM2.5 NAAQS, Connecticut DEEP referenced EPA's prior approvals of Connecticut's annual network monitoring plans, as well as CGS § 22a-174(d), which provides the Commissioner with “all incidental powers necessary to carry out the purposes of” Connecticut's air pollution control laws. EPA proposes that CT DEEP has met the infrastructure SIP requirements of section 110(a)(2)(B) with respect to the 2012 PM2.5 NAAQS.

⁵ EPA's approval letter is included in the docket for today's action.

C. Section 110(a)(2)(C)—Program for Enforcement of Control Measures and for Construction or Modification of Stationary Sources

States are required to include a program providing for enforcement of all SIP measures and the regulation of construction of new or modified stationary sources to meet NSR requirements under PSD and nonattainment new source review (NNSR) programs. Part C of the CAA (sections 160-169B) addresses PSD, while part D of the CAA (sections 171-193) addresses NNSR requirements.

The evaluation of each state's submission addressing the infrastructure SIP requirements of section 110(a)(2)(C) covers the following: (i) Enforcement of SIP measures; (ii) PSD program for major sources and major modifications; and (iii) a permit program for minor sources and minor modifications.

Sub-Element 1: Enforcement of SIP Measures

CT DEEP staffs and implements an enforcement program pursuant to CGS Title 22a. Specifically, CGS §§ 22a-6 and 22a-6b authorize the Commissioner of CT DEEP to inspect and investigate to ascertain whether violations of any statute, regulation, or permit may have occurred and to impose civil penalties. Additionally, CGS § 22a-171 requires the Commissioner to “adopt, amend, repeal, and enforce regulations . . . and do any other act necessary to enforce the provisions of” CGS §§ 22a-170 through 22a-206, which provide CT DEEP with the authority to, among other things, enforce its regulations, issue orders to correct violations of regulations or permits, impose state administrative penalties, and seek judicial relief. EPA proposes that Connecticut has met the enforcement of SIP measures requirement of section 110(a)(2)(C) with respect to the 2012 PM2.5 NAAQS.

Sub-Element 2: PSD Program for Major Sources and Major Modifications

PSD applies to new major sources or modifications made to major sources for pollutants where the area in which the source is located is in attainment of, or unclassifiable with regard to, the relevant NAAQS. CT DEEP's EPA-approved PSD rules in RCSA sections 22a-174-1, 22a-174-2a, and 22a-174-3a contain provisions that address applicable requirements for all regulated NSR pollutants, including greenhouse gases (GHGs).

EPA's “Final Rule to Implement the 8-Hour Ozone National Ambient Air Quality Standard—Phase 2; Final Rule to Implement Certain Aspects of the 1990 Amendments Relating to New Source Review and Prevention of Significant Deterioration as They Apply in Carbon Monoxide, Particulate Matter, and Ozone NAAQS; Final Rule for Reformulated Gasoline” (Phase 2 Rule) was published on November 29, 2005 (70 FR 71612). Among other requirements, the Phase 2 Rule obligated states to revise their PSD programs to explicitly identify NOX as a precursor to ozone. See 70 FR 71679 at 71699-700. This requirement is codified in 40 CFR 51.166, and requires that states submit SIP revisions incorporating the requirements of the rule, including provisions that would treat NOX as a precursor to ozone provisions. These SIP revisions were to have been submitted to EPA by states by June 15, 2007. See 70 FR 71683.

Connecticut's EPA-approved PSD rules do not currently contain the provisions needed to ensure that NOX be treated as a precursor to ozone. However, CT DEEP has made the necessary revisions to its regulation and, on October 18, 2017, submitted regulations for the EPA's approval of its PSD rules to treat NOx as precursor pollutant to ozone.

Accordingly, as we discuss further on in our discussion of this sub-element, we are proposing to approve the revisions to CT DEEP's PSD permit program at RCSA Section 22a-174-3a(k)(1)(C), and to convert our June 3, 2016, conditional approval of this PSD infrastructure sub-element relating to treating NOX emissions as precursor emissions to ozone formation to a full approval. See 81 FR 35636.

On October 20, 2010, EPA issued a final rule (75 FR 64864) entitled “Prevention of Significant Deterioration (PSD) for Particulate Matter Less Than 2.5 Micrometers (PM2.5)—Increments, Significant Impact Levels (SILs) and Significant Monitoring Concentration (SMC)” (2010 NSR Rule). This rule established several components for making PSD permitting determinations for PM2.5, including adding the required elements for PM2.5 into a state's existing system of “increment analysis,” which is the mechanism used in the PSD permitting program to estimate significant deterioration of ambient air quality for a pollutant in relation to new source construction or modification. The maximum allowable increment increases for different pollutants are codified in 40 CFR 51.166(c) and 40 CFR 52.21(c).

The 2010 NSR Rule described in the preceding paragraph revised the existing system for determining increment consumption by establishing a new “major source baseline date” for PM2.5 of October 20, 2010, and by establishing a trigger date for PM2.5 in relation to the definition of “minor source baseline date.” These revisions to the federal PSD rules are codified in 40 CFR 51.166(b)(14)(i)(c) and (b)(14)(ii)(c), and 52.21(b)(14)(i)(c) and (b)(14)(ii)(c).

Lastly, the 2010 NSR Rule revised the definition of “baseline area” to include a level of significance of 0.3 micrograms per cubic meter, annual average, for PM2.5. This change is codified in 40 CFR 51.166(b)(15)(i) and 52.21(b)(15)(i). States were required to revise their SIPs consistent with these changes to the federal regulations.

On July 24, 2015, EPA approved Connecticut's October 9, 2012, SIP revision for its PSD program, which incorporated two of the four changes addressed by the 2010 NSR Rule. The two changes were (1) a revised definition of “Major source baseline date” that included a date for PM2.5 specifically; and (2) the addition of the maximum allowable increment for PM2.5. See 80 FR 43960.

CT DEEP's October 9, 2012, SIP revision did not specifically address the two other changes EPA made to the PSD rules in 2010, and for the following reasons EPA did not include those as part of the conditional approval described in our October 16, 2012 notice. See 77 FR 63228. One of those changes is the requirement that a State's definition of “minor source baseline date” be amended to include a trigger date for PM2.5 emissions (see EPA's definition for “minor source baseline date” at 40 CFR 51.166(b)(14)(ii)). Instead of using a specific date, EPA's definition for minor source baseline date provides that the minor source baseline date is triggered by a state's receipt of its first complete PSD application. At the time CT DEEP made its October 9, 2012 SIP revision, it would not have been possible for the State to have amended its regulation to include a specific minor source baseline date because no source had submitted a complete PSD application for PM2.5. This is so because CT DEEP‘s PSD regulations are structured in a way that uses actual specific dates based on submission of a first complete PSD application for a particular pollutant. (The approach contained in EPA's regulations is somewhat different in the sense that instead of using actual specific dates, EPA articulates the concept of a first complete PSD application as the minor source baseline date trigger.) EPA understands that CT DEEP did not receive a complete PSD application for a source subject to PSD for PM2.5 emissions until 2014. Consequently, the State could not have included an actual date in its definition of “minor source baseline date” within its October 9, 2012 SIP revision.

Although Connecticut could not establish an actual date for PM2.5 in its definition of “minor source baseline date,” at the time of its October 9, 2012 SIP revision, Connecticut has since revised this definition to include a specific date. As a result, on June 3, 2016, the EPA conditionally approved this element of Connecticut's infrastructure requirements to establish a “minor source baseline date.” See 81 FR 35636. On October 18, 2017, CT DEEP submitted revised regulations for EPA's approval to satisfy this requirement and establish the minor source baseline date as August 24, 2014, for PM2.5. Although Connecticut's approach to establishing a minor source baseline emissions concentration as part of an increment consumption analysis differs slightly from the approach taken under the federal PSD regulations codified at 40 CFR 51.166, the EPA has determined the minor discrepancy does not result in a different minor source baseline emissions concentration and Connecticut's approach is therefore functionally equivalent to the federal PSD regulations. For example, Connecticut's regulation identifies August 24, 2014 as the minor source baseline date as opposed to September 24, 2014 when the State received its first complete PSD application that was significant for PM2.5. Although this approach results in a slightly different time period for calculating minor source baseline emissions (i.e., one month earlier), the EPA has concluded that the calculation would yield a result that is as protective as the federal PSD regulations. Consequently, we propose to approve Connecticut's revisions to the PSD permit program at RCSA Section 22a-174-1(71) and to convert our June 3, 2016 conditional approval of this PSD infrastructure sub-element relating to section 110(a)(2)(C) to a full approval. See 81 FR 35636.

On July 3, 2016, EPA fully approved Connecticut's SIP with regard to the remainder of the requirements for this sub-element (81 FR 35636). For a detailed analysis, see EPA's proposed rule at 80 FR 54471.

In summary, we are proposing to approve Connecticut's submittals for this sub-element pertaining to section 110(a)(2)(C) with respect to the 2012 PM2.5 NAAQS, as well as revisions to the PSD permit program pertaining to treating NOX as a precursor to ozone and to establishing a minor source baseline date for PM2.5.

Sub-Element 3: Preconstruction Permitting for Minor Sources and Minor Modifications

To address the pre-construction regulation of the modification and construction of minor stationary sources and minor modifications of major stationary sources, an infrastructure SIP submission should identify the existing EPA-approved SIP provisions and/or include new provisions that govern the minor source pre-construction program that regulate emissions of the relevant NAAQS pollutants. EPA approved Connecticut's minor NSR program, as well as updates to that program, with the most recent approval occurring on February 28, 2003 (68 FR 9009). Since this date, Connecticut and EPA have relied on the existing minor NSR program to ensure that new and modified sources not captured by the major NSR permitting programs do not interfere with attainment and maintenance of the 2012 PM2.5 NAAQS.

We are proposing to find that Connecticut has met the requirement to have a SIP approved minor new source review permit program as required under Section 110(a)(2)(C) for the 2012 PM2.5 NAAQS.

D. Section 110(a)(2)(D)—Interstate Transport

This section contains a comprehensive set of air quality management elements pertaining to the transport of air pollution with which states must comply. It covers the following five topics, categorized as sub-elements: Sub-element 1, Significant contribution to nonattainment, and interference with maintenance of a NAAQS; ⁶ Sub-element 2, PSD; Sub-element 3, Visibility protection; Sub-element 4, Interstate pollution abatement; and Sub-element 5, International pollution abatement. Sub-elements 1 through 3 above are found under section 110(a)(2)(D)(i) of the Act, and these items are further categorized into the four prongs discussed below, two of which are found within sub-element 1. Sub-elements 4 and 5 are found under section 110(a)(2)(D)(ii) of the Act and include provisions insuring compliance with sections 115 and 126 of the Act relating to interstate and international pollution abatement.

⁶ For this sub-element only, we are evaluating two Connecticut SIP submittals, the transport SIP for the 2006 PM2.5 NAAQS submitted on August 19, 2011, and the infrastructure SIP for the 2012 PM2.5 NAAQS submitted on December 14, 2015.

Sub-Element 1: Section 110(a)(2)(D)(i)(I)—Significant Contribution to Nonattainment (Prong 1) and Interference With Maintenance of the NAAQS (Prong 2)

Section 110(a)(2)(D)(i)(I) of the CAA requires a SIP to prohibit any emissions activity in the state that will contribute significantly to nonattainment or interfere with maintenance of the NAAQS in any downwind state. EPA commonly refers to these requirements as prong 1 (significant contribution to nonattainment) and prong 2 (interference with maintenance), or jointly as the “Good Neighbor” or “transport” provisions of the CAA. This rulemaking proposes action on the portions of Connecticut's August 19, 2011 and December 14, 2015 SIP submissions that address the prong 1 and 2 requirements with respect to the 2006 and 2012 PM2.5 NAAQS, respectively.

EPA has developed a consistent framework for addressing the prong 1 and 2 interstate-transport requirements with respect to the PM2.5 NAAQS in several previous federal rulemakings. The four basic steps of that framework include: (1) Identifying downwind receptors that are expected to have problems attaining or maintaining the NAAQS; (2) identifying which upwind states contribute to these identified problems in amounts sufficient to warrant further review and analysis; (3) for states identified as contributing to downwind air quality problems, identifying upwind emissions reductions necessary to prevent an upwind state from significantly contributing to nonattainment or interfering with maintenance of the NAAQS downwind; and (4) for states that are found to have emissions that significantly contribute to nonattainment or interfere with maintenance of the NAAQS downwind, reducing the identified upwind emissions through adoption of permanent and enforceable measures. This framework was most recently applied with respect to PM2.5 in the Cross-State Air Pollution Rule (CSAPR), which addressed both the 1997 and 2006 PM2.5 standards, as well as the 1997 ozone standard. See 76 FR 48208 (August 8, 2011).

EPA's analysis for CSAPR, conducted consistent with the four-step framework, included air-quality modeling that evaluated the impacts of 38 eastern states on identified receptors in the eastern United States. EPA indicated that, for step 2 of the framework, states with impacts on downwind receptors that are below the contribution threshold of 1% of the relevant NAAQS would not be considered to significantly contribute to nonattainment or interfere with maintenance of the relevant NAAQS, and would, therefore, not be included in CSAPR. See 76 FR 48220. EPA further indicated that such states could rely on EPA's analysis for CSAPR as technical support in order to demonstrate that their existing or future interstate transport SIP submittals are adequate to address the transport requirements of 110(a)(2)(D)(i)(I) with regard to the relevant NAAQS. Id.

In addition, as noted above, on March 17, 2016, EPA released the 2016 memorandum to provide information to states as they develop SIPs addressing the Good Neighbor provision as it pertains to the 2012 PM2.5 NAAQS. Consistent with step 1 of the framework, the 2016 memorandum provides projected future-year annual PM2.5 design values for monitors throughout the country based on quality-assured and certified ambient-monitoring data and recent air-quality modeling and explains the methodology used to develop these projected design values. The memorandum also describes how the projected values can be used to help determine which monitors should be further evaluated to potentially address if emissions from other states significantly contribute to nonattainment or interfere with maintenance of the 2012 PM2.5 NAAQS at these monitoring sites. The 2016 memorandum explained that the pertinent year for evaluating air quality for purposes of addressing interstate transport for the 2012 PM2.5 NAAQS is 2021, the attainment deadline for 2012 PM2.5 NAAQS nonattainment areas classified as Moderate. Accordingly, because the available data included 2017 and 2025 projected average and maximum PM2.5 design values calculated through the CAMx photochemical model, the memorandum suggests approaches states might use to interpolate PM2.5 values at sites in 2021.

For all but one monitor site in the eastern United States, the modeling data provided in the 2016 memorandum showed that monitors were expected to both attain and maintain the 2012 PM2.5 NAAQS in both 2017 and 2025. The modeling results project that this one monitor, the Liberty monitor, (ID number 420030064), located in Allegheny County, Pennsylvania, will be above the 2012 annual PM2.5 NAAQS in 2017, but only under the model's maximum projected conditions, which are used in EPA's interstate transport framework to identify maintenance receptors. The Liberty monitor (along with all the other Allegheny County monitors) is projected to both attain and maintain the NAAQS in 2025. The 2016 memorandum suggests that under such a condition (again, where EPA's photochemical modeling indicates an area will maintain the 2012 annual PM2.5 NAAQS in 2025, but not in 2017), further analysis of the site should be performed to determine if the site may be a nonattainment or maintenance receptor in 2021 (which, again, is the attainment deadline for moderate PM2.5 areas). The memorandum also indicates that for certain states with incomplete ambient monitoring data, additional information including the latest available data, should be analyzed to determine whether there are potential downwind air quality problems that may be impacted by transported emissions. This rulemaking considers these analyses for Connecticut, as well as additional analysis conducted by EPA during review of Connecticut's submittals.

To develop the projected values presented in the memorandum, EPA used the results of nationwide photochemical air-quality modeling that it recently performed to support several rulemakings related to the ozone NAAQS. Base-year modeling was performed for 2011. Future-year modeling was performed for 2017 to support the proposed CSAPR Update for the 2008 Ozone NAAQS. See 80 FR 75705 (December 3, 2015). Future-year modeling was also performed for 2025 to support the Regulatory Impact Assessment of the final 2015 Ozone NAAQS.⁷ The outputs from these model runs included hourly concentrations of PM2.5 that were used in conjunction with measured data to project annual average PM2.5 design values for 2017 and 2025. Areas that were designated as moderate PM2.5 nonattainment areas for the 2012 annual PM2.5 NAAQS in 2014 must attain the NAAQS by December 31, 2021, or as expeditiously as practicable. Although neither the available 2017 nor 2025 future-year modeling data corresponds directly to the future-year attainment deadline for moderate PM2.5 nonattainment areas, EPA believes that the modeling information is still helpful for identifying potential nonattainment and maintenance receptors in the 2017-2021 period. Assessing downwind PM2.5 air-quality problems based on estimates of air-quality concentrations in a future year aligned with the relevant attainment deadline is consistent with the instructions from the United States Court of Appeals for the District of Columbia Circuit in North Carolina v. EPA, 531 F.3d 896, 911-12 (D.C. Cir. 2008) that upwind emission reductions should be harmonized, to the extent possible, with the attainment deadlines for downwind areas.

⁷ See 2015 ozone NAAQS RIA at: https://www3.epa.gov/ttnecas1/docs/20151001ria.pdf.

Connecticut's Submissions for Prongs 1 and 2

On September 18, 2009, CT DEEP submitted an infrastructure SIP for the 2006 PM2.5 NAAQS, which included transport provisions that addressed prongs 1 and 2 with respect to the 2006 PM2.5 NAAQS. However, on January 7, 2011, CT DEEP withdrew the transport portion of this 2009 SIP. On August 19, 2011, Connecticut submitted a revised SIP that replaced the portions of the state's submission that were previously withdrawn. The state's revised SIP relied on EPA's analysis performed for the CSAPR rulemaking to conclude that the state will not significantly contribute to nonattainment or interfere with maintenance of the NAAQS in any downwind area.

On December 14, 2015, CT DEEP submitted an infrastructure SIP for the 2012 PM2.5 NAAQS. This submission addressed prongs 1 and 2 of the interstate transport requirements. Based on information given in Attachment D of its SIP submission, Connecticut concluded that it does not contribute significantly to nonattainment or interfere with maintenance of the 2012 annual PM2.5 NAAQS in any other state because projected emissions of PM2.5 and PM2.5 precursors (NOX and SO2) in Connecticut are expected to decline over at least the next decade, and there are federal and SIP-approved state regulations in place to control emissions of PM2.5 and PM2.5 precursors.

Regarding future emissions of PM2.5 and PM2.5 precursors, Connecticut developed comprehensive emissions inventories in collaboration with other states in the Mid-Atlantic/Northeast Visibility Union (MANE-VU). Results indicate that total emissions of PM2.5 and PM2.5 precursors are projected to decrease significantly between 2007 and 2025 in New Haven and Fairfield counties in southwestern Connecticut, the area of the state that historically has had the highest monitored PM2.5 levels.⁸

⁸ “Connecticut's PM2.5 Redesignation Request and Maintenance Plan, Technical Support Document,” (June 22, 2012). Included in the docket for this notice.

EPA analyzed the state's August 19, 2011 and December 14, 2015 SIP submittals to determine whether they fully address the prong 1 and 2 transport provisions with respect to the 2006 and 2012 PM2.5 NAAQS. As discussed below, EPA concludes that emissions of PM2.5 and PM2.5 precursors in Connecticut will not significantly contribute to nonattainment or interfere with maintenance of the 2006 or 2012 PM2.5 NAAQS in any other state.

Analysis of Connecticut's Submission for the 2006 PM2.5 NAAQS

With respect to the 2006 PM2.5 NAAQS, EPA's analysis in the 2011 CSAPR rulemaking determined that Connecticut's impact to all downwind receptors would be below the 1% contribution threshold for this NAAQS (i.e., 0.15 μg/m³), indicating that the state will not significantly contribute to nonattainment or interfere with maintenance for the 2006 PM2.5 NAAQS in any downwind state. As noted above, EPA previously determined that states can rely on EPA's CSAPR analysis for the 2006 PM2.5 NAAQS. Accordingly, as EPA has already concluded that Connecticut will not significantly contribute to nonattainment or interfere with maintenance of the 2006 PM2.5 NAAQS, we do not need to reevaluate Connecticut's Good Neighbor obligation with respect to this NAAQS. Consequently, EPA is proposing to approve Connecticut's August 8, 2011, SIP submission with regard to prongs 1 and 2 for the 2006 PM2.5 NAAQS.

Analysis of Connecticut's Submission for the 2012 PM2.5 NAAQS

As noted above, the modeling discussed in EPA's 2016 memorandum identified one potential maintenance receptor for the 2012 PM2.5 NAAQS at the Liberty monitor (ID number 420030064), located in Allegheny County. The memorandum also identified certain states with incomplete ambient monitoring data as areas that may require further analysis to determine whether there are potential downwind air quality problems that may be impacted by transported emissions.

While developing the 2011 CSAPR rulemaking, EPA modeled the impacts of all 38 eastern states in its modeling domain on fine particulate matter concentrations at downwind receptors in other states in the 2012 analysis year in order to evaluate the contribution of upwind states on downwind states with respect to the 1997 and 2006 PM2.5. Although the modeling was not conducted for purposes of analyzing upwind states' impacts on downwind receptors with respect to the 2012 PM2.5 NAAQS, the contribution analysis for the 1997 and 2006 standards can be informative for evaluating Connecticut's compliance with the Good Neighbor provision for the 2012 standard.

This CSAPR modeling showed that Connecticut had a very small impact (0.005 μg/m³) on the Liberty monitor in Allegheny County, Pennsylvania, which is the only out-of-state monitor that may be a nonattainment or maintenance receptor in 2021. Although EPA has not proposed a particular threshold for evaluating the 2012 PM2.5 NAAQS, EPA notes that Connecticut's impact on the Liberty monitor is far below the threshold of 1% for the annual 2012 PM2.5 NAAQS (i.e., 0.12 μg/m³) that EPA previously used to evaluate the contribution of upwind states to downwind air-quality monitors. (A spreadsheet showing CSAPR contributions for ozone and PM2.5 is included in docket EPA-HQ-OAR-2009-0491-4228.) Therefore, even if the Liberty monitor were considered a receptor for purposes of transport, the EPA proposes to conclude that Connecticut will not significantly contribute to nonattainment, or interfere with maintenance, of the 2012 PM2.5 NAAQS at that monitor.

In addition, the Liberty monitor is already close to attaining the 2012 PM2.5 NAAQS, and expected emissions reductions in the next four years will lead to additional reductions in measured PM2.5 concentrations. There are both local and regional components to measured PM2.5 levels. All monitors in Allegheny County have a regional component, with the Liberty monitor most strongly influenced by local sources. This is confirmed by the fact that annual average measured concentrations at the Liberty monitor have consistently been 2-4 μg/m³ higher than other monitors in Allegheny County.

Specifically, previous CSAPR modeling showed that regional emissions from upwind states, particularly SO2 and NOx emissions, contribute to PM2.5 nonattainment at the Liberty monitor. In recent years, large SO2 and NOX reductions from power plants have occurred in Pennsylvania and states upwind from the Greater Pittsburgh region. Pennsylvania's energy sector emissions of SO2 will have decreased 166,000 tons between 2015-2017 as a result of CSAPR implementation. This is due to both the installation of emissions controls and retirements of electric generating units (EGUs). Projected power plant closures and additional emissions controls in Pennsylvania and upwind states will help further reduce both direct PM2.5 and PM2.5 precursors. Regional emission reductions will continue to occur from current on-the-books federal and state regulations such as the federal on-road and non-road vehicle programs, and various rules for major stationary emissions sources. See proposed approval of the Ohio Infrastructure SIP for the 2012 PM2.5 NAAQS (82 FR 57689; December 7, 2017).

In addition to regional emissions reductions and plant closures, additional local reductions to both direct PM2.5 and SO2 emissions are expected to occur and should contribute to further declines in Allegheny County's PM2.5 monitor concentrations. For example, significant SO2 reductions have recently occurred at US Steel's integrated steel mill facilities in southern Allegheny County as part of a 1-hr SO2 NAAQS SIP.⁹ Reductions are largely due to declining sulfur content in the Clairton Coke Work's coke oven gas (COG). Because this COG is burned at U.S. Steel's Clairton Coke Works, Irvin Mill, and Edgar Thompson Steel Mill, these reductions in sulfur content should contribute to much lower PM2.5 precursor emissions in the immediate future. The Allegheny SO2 SIP also projects lower SO2 emissions resulting from vehicle fuel standards, reductions in general emissions due to declining population in the Greater Pittsburgh region, and several shutdowns of significant sources of emissions in Allegheny County.

⁹ http://www.achd.net/air/pubs/SIPs/SO2_2010_NAAQS_SIP_9-14-2017.pdf.

EPA modeling projections, the recent downward trend in local and upwind emissions reductions, the expected continued downward trend in emissions between 2017 and 2021, and the downward trend in monitored PM2.5 concentrations all indicate that the Liberty monitor will attain and be able to maintain the 2012 annual PM2.5 NAAQS by 2021. See proposed approval of the Ohio Infrastructure SIP (82 FR 57689).

As noted in the 2016 memorandum, several states have had recent data-quality issues identified as part of the PM2.5 designations process. In particular, some ambient PM2.5 data for certain time periods between 2009 and 2013 in Florida, Illinois, Idaho, Tennessee, and Kentucky did not meet all data-quality requirements under 40 CFR part 50, appendix L. The lack of data means that the relevant areas in those states could potentially be in nonattainment or be maintenance receptors in 2021. However, as mentioned above, EPA's analysis for the 2011 CSAPR rulemaking with respect to the 2006 PM2.5 NAAQS determined that Connecticut's impact to all these downwind receptors would be well below the 1% contribution threshold for this NAAQS. That conclusion informs the analysis of Connecticut's contributions for purposes of the 2012 PM2.5 NAAQS as well. Given this, and the fact, discussed below, that the state's PM2.5 design values for all ambient monitors have declined since 2009-2013, EPA concludes that it is highly unlikely that Connecticut significantly contributes to nonattainment or interferes with maintenance of the 2012 PM2.5 NAAQS in areas with data-quality issues.¹⁰

¹⁰ Connecticut's PM2.5 design values for all ambient monitors from 2004-2006 through 2013-2015 are available on Table 6 of the 2015 Design Value Report at https://19january2017snapshot.epa.gov/air-trends/air-quality-design-values_.html.

Additional information in Connecticut's 2015 SIP submission corroborates EPA's proposed conclusion that Connecticut's SIP meets its Good Neighbor obligations. First, Connecticut's emissions are decreasing, as indicated in a technical analysis of the state's interstate transport of pollution relative to the 2012 annual PM2.5 NAAQS, which was included in the 2015 submittal. The technical analysis includes Connecticut's 2014 PM2.5 design values; design-value trends over the last decade for Connecticut and the nearby states of New York, New Jersey, Massachusetts, and Rhode Island; as well as other factors such as meteorology and emissions projections. Design values for Connecticut and nearby states have shown a declining trend and have remained in compliance with the 2012 PM2.5 NAAQS since 2011. Emissions projections show continuing maintenance of the 2012 PM2.5 NAAQS in Connecticut and the nearby states. Connecticut's technical analysis also refers to emissions projections through 2025 for the southwestern portion of Connection, the area that historically has had the highest monitored PM2.5 levels. These projections were part of the state's 10-year (ending in 2025) maintenance plan for the 1997 annual and 2006 24-hour PM2.5 NAAQS that was approved by EPA on September 24, 2013. See 78 FR 58467. In southwestern Connecticut, emissions of PM2.5, NOX and SO2 were projected to decrease by 22%, 52% and 43%, respectively, between 2007 and 2025, and similar levels of reductions were projected for the rest of the state. This technical analysis is supported by additional indications that the state's air quality is improving and emissions are falling, including certified annual PM2.5 monitor values recorded since Connecticut's 2015 submittal, with the highest value in 2015 being 9.9 μg/m³ at a monitor in Hartford and the highest value in 2016 being 9.4 μg/m³ at a monitor in Bridgeport, with further statewide declines indicated by 2017 preliminary results.¹¹ In addition, as reported in EPA's Clean Air Markets Program database, actual ozone-season NOX emissions from EGUs in Connecticut from 2011 through 2017 fell from 858 to 430 tons, a 50-percent drop.

¹¹ 24-hour and annual PM2.5 monitor values for individual monitoring sites throughout Connecticut are available at https://www.epa.gov/outdoor-air-quality-data/monitor-values-report.

Second, Connecticut's sources are well-controlled. Connecticut's 2015 submission indicates that the SIP contains the following major requirements related to the interstate transport of pollution: RCSA section 22a-174-2a (NSR program, including notification of nearby states of major source permits and modifications), RCSA section 22a-174-3a (PSD and NSR requirements, including modeling to that ensure new and modified sources do not cause or contribute to PSD or NAAQS issues in nearby states). These rules were approved by EPA on July 24, 2015, and became effective on September 22, 2015. See 80 FR 43960.

It should also be noted that Connecticut is not in the CSAPR program because EPA analyses show that the state no longer emits ozone-season NOX at a level that contributes significantly to non-attainment or interferes with maintenance of the 1997 and 2006 PM2.5 NAAQS in any other state.

For the reasons explained herein, EPA agrees with Connecticut's conclusions and proposes to determine that Connecticut will not significantly contribute to nonattainment or interfere with maintenance of the 2006 or 2012 PM2.5 NAAQS in any other state. Therefore, EPA is proposing to approve the August 2011 and December 2015 infrastructure SIP submissions from Connecticut addressing prongs 1 and 2 of CAA section 110(a)(2)(D)(i)(I) for the 2006 and 2012 PM2.5 NAAQS, respectively.

Sub-Element 2: Section 110(a)(2)(D)(i)(II)—PSD (Prong 3)

To prevent significant deterioration of air quality, this sub-element requires SIPs to include provisions that prohibit any source or other type of emissions activity in one state from interfering with measures that are required in any other state's SIP under Part C of the CAA. One way for a state to meet this requirement, specifically with respect to in-state sources and pollutants that are subject to PSD permitting, is through a comprehensive PSD permitting program that applies to all regulated NSR pollutants and that satisfies the requirements of EPA's PSD implementation rules. For in-state sources not subject to PSD, this requirement can be satisfied through an approved NNSR program with respect to any previous NAAQS.

Connecticut updated RCSA Section 22a-174-3a(k) and 3a(i) effective April 2014. EPA approved these changes on July 24, 2015 (80 FR 43960). These regulations contain provisions for how the state must treat and control sources in nonattainment areas, consistent with 40 CFR 51.165, or appendix S to 40 CFR 51.

Sub-Element 3: Section 110(a)(2)(D)(i)(II)—Visibility Protection (Prong 4)

With regard to applicable requirements for visibility protection of section 110(a)(2)(D)(i)(II), states are subject to visibility and regional-haze program requirements under part C of the CAA (which includes sections 169A and 169B). The 2009 guidance, 2011 guidance, and 2013 guidance recommend that these requirements can be satisfied by an approved SIP addressing reasonably attributable visibility impairment, if required, or an approved SIP addressing regional haze. A fully approved regional haze SIP meeting the requirements of 40 CFR 51.308 will ensure that emissions from sources under an air agency's jurisdiction are not interfering with measures required to be included in other air agencies' plans to protect visibility. Connecticut's Regional Haze SIP was approved by EPA on July 10, 2014 (79 FR 39322). Accordingly, EPA proposes that Connecticut has met the visibility protection requirements of 110(a)(2)(D)(i)(II) for the 2012 PM2.5 NAAQS.

Sub-Element 4: Section 110(a)(2)(D)(ii)—Interstate Pollution Abatement

This sub-element requires each SIP to contain provisions requiring compliance with requirements of section 126 relating to interstate pollution abatement. Section 126(a) requires new or modified sources to notify neighboring states of potential impacts from the source. The statute does not specify the method by which the source should provide the notification. States with SIP-approved PSD programs must have a provision requiring such notification by new or modified sources.

EPA approved revisions to Connecticut's PSD program on July 24, 2015 (80 FR 43960), including the element pertaining to notification to neighboring states of the issuance of PSD permits. Therefore, we propose to approve Connecticut's compliance with the infrastructure SIP requirements of section 126(a) with respect to the 2012 PM2.5 NAAQS. Connecticut has no obligations under any other provision of section 126.

Sub-Element 5: Section 110(a)(2)(D)(ii)—International Pollution Abatement

This sub-element requires each SIP to contain provisions requiring compliance with the applicable requirements of section 115 relating to international pollution abatement. Connecticut does not have any pending obligations under section 115 for the 2012 PM2.5 NAAQS. Therefore, EPA is proposing that Connecticut has met the applicable infrastructure SIP requirements of section 110(a)(2)(D)(ii) related to section 115 of the CAA (international pollution abatement) for the 2012 PM2.5 NAAQS.

E. Section 110(a)(2)(E)—Adequate Resources

This section requires each state to provide for personnel, funding, and legal authority under state law to carry out its SIP and related issues. In addition, Section 110(a)(2)(E)(ii) requires each state to comply with the requirements with respect to state boards under section 128. Finally, section 110(a)(2)(E)(iii) requires that, where a state relies upon local or regional governments or agencies for the implementation of its SIP provisions, the state retain responsibility for ensuring implementation of SIP obligations with respect to relevant NAAQS. However, this sub-element does not apply to this action because Connecticut does not rely upon local or regional governments or agencies for the implementation of its SIP provisions.

Sub-Element 1: Adequate Personnel, Funding, and Legal Authority Under State Law To Carry Out Its SIP, and Related Issues

Connecticut, through its infrastructure SIP submittal, has documented that its air agency has authority and resources to carry out its SIP obligations. CGS § 22a-171 authorizes the CT DEEP Commissioner to enforce the state's air laws, accept and administer grants, and exercise incidental powers necessary to carry out the law. The Connecticut SIP, as originally submitted on March 3, 1972, and subsequently amended, provides additional descriptions of the organizations, staffing, funding and physical resources necessary to carry out the plan. EPA proposes that Connecticut has met the infrastructure SIP requirements of this portion of section 110(a)(2)(E) with respect to the 2012 PM2.5 NAAQS.

Sub-Element 2: State Board Requirements Under Section 128 of the CAA

Section 110(a)(2)(E) also requires each SIP to contain provisions that comply with the state board requirements of section 128 of the CAA. That provision contains two explicit requirements: (1) That any board or body which approves permits or enforcement orders under this chapter shall have at least a majority of members who represent the public interest and do not derive any significant portion of their income from persons subject to permits and enforcement orders under this chapter, and (2) that any potential conflicts of interest by members of such board or body or the head of an executive agency with similar powers be adequately disclosed.

In Connecticut, no board or body approves permits or enforcement orders; these are approved by the Commissioner of CT DEEP. Thus, Connecticut is subject only to the requirements of paragraph (a)(2) of section 128 of the CAA. Infrastructure SIPs submitted by Connecticut include descriptions of conflict-of-interest provisions in CGS § 1-85, which applies to all state employees and public officials. Section 1-85 prevents the Commissioner from acting on a matter in which the Commissioner has an interest that is “in substantial conflict with the proper discharge of his duties or employment in the public interest and of his responsibilities as prescribed in the laws of” Connecticut.

Connecticut submitted CGS § 1-85 for incorporation into the SIP on December 28, 2012, with its infrastructure SIP for the 2008 ozone NAAQS. We approved this statute into the Connecticut SIP on June 3, 2016 (81 FR 35636). Therefore, Connecticut has met the applicable infrastructure SIP requirements for this section of 110(a)(2)(E) for the 2012 PM2.5 NAAQS.

F. Section 110(a)(2)(F)—Stationary Source Monitoring System

States must establish a system to monitor emissions from stationary sources and submit periodic emissions reports. Each plan shall also require the installation, maintenance, and replacement of equipment, and the implementation of other necessary steps, by owners or operators of stationary sources to monitor emissions from such sources. The state plan shall also require periodic reports on the nature and amounts of emissions and emissions-related data from such sources, and correlation of such reports by each state agency with any emission limitations or standards established pursuant to this chapter. Lastly, the reports shall be available at reasonable times for public inspection.

CGS § 22a-6(a)(5) authorizes the Commissioner to enter at all reasonable times, any public or private property (except a private residence) to investigate possible violations of any statute, regulation, order or permit. Additionally, CGS § 22a-174 authorizes the Commissioner to require periodic inspection of sources of air pollution and to require any person to maintain, and to submit to CT DEEP, certain records relating to air pollution or to the operation of facilities designed to abate air pollution. For monitoring possible air violations, CT DEEP implements RCSA § 22a-174-4 (Source monitoring, record keeping and reporting) to require the installation, maintenance, and use of emissions monitoring devices and to require periodic reporting to the Commissioner of the nature and extent of the emissions. Section 22a-174-4 has been approved into the SIP. See 79 FR 41427 (July 16, 2014). Additionally, CT DEEP implements RCSA § 22a-175-5 (Methods for sampling, emissions testing, sample analysis, and reporting), which provides, among other things, specific test methods to be used to demonstrate compliance with various aspects of Connecticut's air regulations, and this rule has also been approved into the SIP. See 46 FR 43418 (December 19, 1980). Furthermore, under RCSA § 22a-174-10 (Public availability of information) emissions data are to be available to the public and are not entitled to protection as a trade secret. See 37 FR 23085 (October 28, 1972). EPA recognizes that Connecticut routinely collects information on air emissions from its industrial sources and makes this information available to the public. In addition, RCSA § 22a-174-10 requires that emission data made public by CT DEEP shall be presented in such a manner as to show the relationship (or correlation) between measured emissions and the applicable emission limitations or standards, as required by CAA § 110(a)(2)(F)(iii).

Therefore, EPA proposes that Connecticut has met the infrastructure SIP requirements of section 110(a)(2)(F) with respect to the 2012 PM2.5 NAAQS.

G. Section 110(a)(2)(G)—Emergency Powers

This section requires that a plan provide for state authority analogous to that provided to the EPA Administrator in section 303 of the CAA, and adequate contingency plans to implement such authority. Section 303 of the CAA provides authority to the EPA Administrator to seek a court order to restrain any source from causing or contributing to emissions that present an “imminent and substantial endangerment to public health or welfare, or the environment.” Section 303 further authorizes the Administrator to issue “such orders as may be necessary to protect public health or welfare or the environment” in the event that “it is not practicable to assure prompt protection . . . by commencement of such civil action.”

Connecticut's submittal notes that CGS § 22a-181 (Emergency action) authorizes the Commissioner of the CT DEEP to issue an order requiring any person to immediately reduce or discontinue air pollution as required to protect the public health or safety. In addition, in a letter dated August 5, 2015, Connecticut specified that CGS § 22a-7 grants the Commissioner the authority, whenever he finds “that any person is causing, engaging in or maintaining, or is about to cause, engage in or maintain, any condition or activity which, in his judgment, will result in or is likely to result in imminent and substantial damage to the environment, or to public health within the jurisdiction of the commissioner under the provisions of chapter . . . 446c [Air Pollution Control] . . . [to] issue a cease and desist order in writing to such person to discontinue, abate or alleviate such condition or activity.” This section further provides the Commissioner with the authority to seek a court “to enjoin any person from violating a cease and desist order issued pursuant to[§ 22a-7] and to compel compliance with such order.”

We propose to find that RCSA § 22a-174-6, along with CGS § 22a-181, provide for authority comparable to that in section 303.

Section 110(a)(2)(G) requires a state to submit for EPA approval a contingency plan to implement the air agency's emergency episode authority for any Air Quality Control Region (AQCR) within the state that is classified as Priority I, IA, or II for certain pollutants, See 40 CFR 51.150. This requirement may be satisfied by submitting a plan that meets the applicable requirements of 40 CFR part 51, subpart H (40 CFR 51.150 through 51.153) (“Prevention of Air Pollution Emergency Episodes”) for the relevant NAAQS, and, indeed, Connecticut has “Air pollution emergency episode procedures” at RCSA § 22a-174-6 that EPA has previously evaluated and approved as satisfying the requirements of Section 110(a)(2)(G) in the context of SOX and ozone. See 81 FR 35636 (June 3, 2016); 80 FR 54471 (Sept. 10, 2015). PM2.5, however, is not explicitly included in the contingency plan requirements of 40 CFR part 51, subpart H, and, thus, a contingency plan satisfying the provisions of subpart H is not required. For PM2.5, EPA's 2009 guidance recommends instead that states develop emergency episode plans for any area that has monitored and recorded 24-hour PM2.5 levels greater than 140 μg/m³ since 2006. EPA's review of Connecticut's certified air quality data in EPA's Air Quality System (AQS) indicates that the highest 24-hour PM2.5 level recorded since 2006 was 57.5 μg/m³, which was recorded at a monitor in Bridgeport on January 1, 2011. And, as noted earlier, Connecticut has general authority to order a source to reduce or discontinue air pollution as required to protect the public health or safety or the environment.

Connecticut also, as a matter of practice, posts on the internet daily forecasted ozone and fine particle levels through the EPA AirNow and EPA EnviroFlash systems. Information regarding these two systems is available on EPA's website at www.airnow.gov. Notices are sent out to EnviroFlash participants when levels are forecast to exceed the current 8-hour ozone or 24-hour PM2.5 NAAQS. In addition, when levels are expected to exceed the ozone or PM2.5 NAAQS in Connecticut, the media are alerted via a press release, and the National Weather Service (NWS) is alerted to issue an Air Quality Advisory through the normal NWS weather alert system.

Therefore, EPA proposes that Connecticut through the combination of statutes and regulations discussed above, and participation in EPA's AirNow program, has met the applicable infrastructure SIP requirements of section 110(a)(2)(G) with respect to the 2012 PM2.5 NAAQS.

H. Section 110(a)(2)(H)—Future SIP Revisions

This section requires that a state's SIP provide for revision from time to time as may be necessary to take account of changes in the NAAQS or availability of improved methods for attaining the NAAQS and whenever the EPA finds that the SIP is substantially inadequate.

Connecticut certifies that its SIP may be revised should EPA find that it is substantially inadequate to attain a standard or to comply with any additional requirements under the CAA and notes that CGS § 22a-174(d) grants the Commissioner all incidental powers necessary to control and prohibit air pollution. EPA proposes that Connecticut has met the infrastructure SIP requirements of section 110(a)(2)(H) with respect to the 2012 PM2.5 NAAQS.

I. Section 110(a)(2)(I)—Nonattainment Area Plan or Plan Revisions Under Part D

The CAA requires that each plan or plan revision for an area designated as a nonattainment area meet the applicable requirements of part D of the CAA. Part D relates to nonattainment areas. EPA has determined that section 110(a)(2)(I) is not applicable to the infrastructure SIP process. Instead, EPA takes action on part D attainment plans through separate processes.

J. Section 110(a)(2)(J)—Consultation With Government Officials; Public Notifications; Prevention of Significant Deterioration; Visibility Protection

The evaluation of the submission from Connecticut with respect to the requirements of CAA section 110(a)(2)(J) is described below.

Sub-Element 1: Consultation With Government Officials

States must provide a process for consultation with local governments and Federal Land Managers (FLMs) carrying out NAAQS implementation requirements.

CGS § 22a-171 (Duties of Commissioner of Energy and Environmental Protection) directs the Commissioner to consult with agencies of the United States, agencies of the state, political subdivisions and industries and any other affected groups in matters relating to air quality. Additionally, CGS § 22a-171, which was approved into Connecticut's SIP (81 FR 35636; June 3, 2016), directs the Commissioner to initiate and supervise state-wide programs of air pollution control education and to adopt, amend, repeal and enforce air regulations.

Furthermore, RCSA § 22a-174-2a, which has been approved into Connecticut's SIP (80 FR 43960; July 24, 2015), directs CT DEEP to notify relevant municipal officials and FLMs, among others, of tentative determinations by CT DEEP with respect to certain permits.

EPA proposes that Connecticut has met the infrastructure SIP requirements of this portion of section 110(a)(2)(J) with respect to the 2012 PM2.5 NAAQS.

Sub-Element 2: Public Notification

Section 110(a)(2)(J) also requires states to notify the public if NAAQS are exceeded in an area, advise the public of health hazards associated with exceedances, and enhance public awareness of measures that can be taken to prevent exceedances and of ways in which the public can participate in regulatory and other efforts to improve air quality.

As part of the fulfillment of CGS § 22a-171 (Duties of Commissioner of Energy and Environmental Protection), Connecticut issues press releases and posts warnings on its website advising people what they can do to help prevent NAAQS exceedances and avoid adverse health effects on poor air quality days. Connecticut is also an active partner in EPA's AirNow and Enviroflash air quality alert programs. In addition, in 2014, Connecticut revised CGS § 4-168 to require that state regulations be submitted through the state's e-regulations system, thus creating an additional way for the public to access any changes to state regulations.

EPA proposes that Connecticut has met the infrastructure SIP requirements of this portion of section 110(a)(2)(J) with respect to the 2012 PM2.5 NAAQS.

Sub-Element 3: PSD

States must meet applicable requirements of section 110(a)(2)(C) related to PSD. Connecticut's PSD program in the context of infrastructure SIPs has already been discussed in the paragraphs addressing sections 110(a)(2)(C) and 110(a)(2)(D)(i)(II) and satisfies the requirements of EPA's PSD implementation rules.

We are proposing to approve the revisions to Connecticut's PSD program that were submitted on October 18, 2017 regarding PSD requirements to treat NOX as a precursor to ozone and to establish a minor source baseline date for PM2.5 emissions. Consequently, we are proposing to approve the PSD sub-element of section 110(a)(2)(J) for the 2012 PM2.5 NAAQS, consistent with the actions we are proposing for sections 110(a)(2)(C) and 110(a)(2)(D)(i)(II).

Sub-Element 4: Visibility Protection

With regard to the applicable requirements for visibility protection, states are subject to visibility and regional haze program requirements under part C of the CAA (which includes sections 169A and 169B). In the event of the establishment of a new NAAQS, however, the visibility and regional haze program requirements under part C do not change. Thus, as noted in EPA's 2013 guidance, we find that there is no new visibility obligation “triggered” under section 110(a)(2)(J) when a new NAAQS becomes effective. In other words, the visibility protection requirements of section 110(a)(2)(J) are not germane to infrastructure SIPs for the 2012 PM2.5 NAAQS.

K. Section 110(a)(2)(K)—Air Quality Modeling/Data

To satisfy Element K, the state air agency must demonstrate that it has the authority to perform air quality modeling to predict effects on air quality of emissions of any NAAQS pollutant and submission of such data to EPA upon request.

In its submittal, Connecticut indicates that CGS § 22a-5 (Duties and powers of commissioner) implicitly authorizes the Commissioner of the CT DEEP to perform air quality modeling to predict effects on air quality of emissions of any NAAQS pollutant and to submit such data to EPA upon request. Connecticut reviews the potential impact of major sources consistent with 40 CFR part 51, appendix W, “Guidelines on Air Quality Models.” In its submittal, Connecticut also cites RCSA section 22a-174-3a(i), which authorizes the commissioner to request any owner or operator to submit an ambient air-quality impact analysis using applicable air quality models and modeling protocols approved by the commissioner. CT DEEP updated RCSA Section 22a-174-3a(i), effective April 2014, and EPA published a direct final rule approving these updates on July 24, 2015. See FR 80 FR 43960.

The state also collaborates with the Ozone Transport Commission (OTC) and the Mid-Atlantic Regional Air Management Association and EPA in order to perform large-scale urban air shed modeling for ozone and PM, if necessary. EPA proposes that Connecticut has met the infrastructure SIP requirements of section 110(a)(2)(K) with respect to the 2012 PM2.5 NAAQS.

L. Section 110(a)(2)(L)—Permitting Fees

This section requires SIPs to mandate that each major stationary source pay permitting fees to cover the cost of reviewing, approving, implementing, and enforcing a permit.

EPA's full approval of Connecticut's Title V program became effective on May 31, 2002. See 67 FR 31966 (May 13, 2002). To gain this approval, Connecticut demonstrated the ability to collect sufficient fees to run the program. CGS § 22a-174(g) directs the Commissioner of CT DEEP to require the payment of a fee sufficient to cover the reasonable cost of reviewing and acting upon an application for, and monitoring compliance with, any state or federal permit, license, registration, order, or certificate. CT DEEP implements this directive through state regulations at RCSA §§ 22a-174-26 and 22a-174-33, which contain specific requirements related to permit fees, including fees for Title V sources. EPA proposes that Connecticut has met the infrastructure SIP requirements of section 110(a)(2)(L) with respect to the 2012 PM2.5 NAAQS.

M. Section 110(a)(2)(M)—Consultation/Participation by Affected Local Entities

To satisfy Element M, states must consult with, and allow participation from, local political subdivisions affected by the SIP. Connecticut's infrastructure submittal references CGS § 4-168 (Notice prior to action on regulations), which provides a public participation process for all stakeholders that includes a minimum of a 30-day comment period and an opportunity for public hearing for all SIP-related actions.

Connecticut also notes that monthly meetings of the State Implementation Plan Revision Advisory Committee provide an additional forum for consultation and participation by the public and other stakeholders on air-quality-related topics.

EPA proposes that Connecticut has met the infrastructure SIP requirements of section 110(a)(2)(M) with respect to the 2012 PM2.5 NAAQS.

N. Connecticut Statute Submitted for Incorporation Into the SIP

Connecticut's December 14, 2015, infrastructure SIP submittal for the 2012 PM2.5 NAAQS included a revision of CGS § 16a-21a, “Sulfur content of home heating oil and off-road diesel fuel. Suspension of requirements for emergency” (see discussion under element A), EPA is proposing to approve revisions to CGS § 16a-21a into the Connecticut SIP.

IV. Proposed Action

EPA is proposing to approve the elements of the infrastructure SIP submitted by Connecticut on December 14, 2015, for the 2012 PM2.5, NAAQS. Specifically, EPA's proposed action regarding each infrastructure SIP requirement are contained in Table 1 below.

Table 1—Proposed Action on Connecticut's Infrastructure SIP Submittal for the 2012 PM2.5 NAAQS
Element | 2012 PM2.5
(A): Emission limits and other control measures | A
(B): Ambient air quality monitoring and data system | A
(C)1: Enforcement of SIP measures | A
(C)2: PSD program for major sources and major modifications | A
(C)3: PSD program for minor sources and minor modifications | A
(D)1: Contribute to nonattainment/interfere with maintenance of NAAQS | A
(D)2: PSD | A
(D)3: Visibility Protection | A
(D)4: Interstate Pollution Abatement | A
(D)5: International Pollution Abatement | A
(E)1: Adequate resources | A
(E)2: State boards | A
(E)3: Necessary assurances with respect to local agencies | NA
(F): Stationary source monitoring system | A
(G): Emergency power | A
(H): Future SIP revisions | A
(I): Nonattainment area plan or plan revisions under part D | +
(J)1: Consultation with government officials | A
(J)2: Public notification | A
(J)3: PSD | A
(J)4: Visibility protection | +
(K): Air quality modeling and data | A
(L): Permitting fees | A
(M): Consultation and participation by affected local entities | A
In the above table, the key is as follows: A, Approve. NA, Not applicable. +, Not germane to infrastructure SIPs.

EPA also is proposing to approve the transport provisions (Element (D)1 in Table 1) of Connecticut's August 2011 infrastructure SIP submittal for the 2006 PM2.5 NAAQS. In addition, EPA is proposing to approve, and incorporate into the Connecticut SIP, the following Connecticut statute, which was included for approval in Connecticut's infrastructure SIP submittal:

Revisions to CGS § 16a-21a, Sulfur content of home heating oil and off-road diesel fuel. Suspension of requirements for emergency, effective July 1, 2015.

EPA is also proposing to approve revisions to the PSD permit program pertaining to treating NOX as a precursor to ozone and establishing a minor source baseline date for PM2.5.

EPA is soliciting public comments on the issues discussed in this proposal or on other relevant matters. These comments will be considered before EPA takes final action. Interested parties may participate in the Federal rulemaking procedure by submitting comments to this proposed rule by following the instructions listed in the ADDRESSES section of this Federal Register.

V. Incorporation by Reference

In this rule, EPA is proposing to include in a final EPA rule regulatory text that includes incorporation by reference. In accordance with requirements of 1 CFR 51.5, EPA is proposing to incorporate by reference the Connecticut statute referenced in Section IV above. The EPA has made, and will continue to make, these documents generally available electronically through https://www.regulations.gov and at the EPA New England Region 1 Office (please contact the person identified in the FOR FURTHER INFORMATION CONTACT section of this preamble for more information).

VI. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: March 8, 2018.
Alexandra Dapolito Dunn,
Regional Administrator, EPA Region 1.

[FR Doc. 2018-05318 Filed 3-16-18; 8:45 am]

BILLING CODE 6560-50-P